DEPARTMENT OF AGRICULTURE

Animal and Plant Health Inspection Service

[Docket No. APHIS-2024-0031]

Notice of Request for Approval of an Information Collection; National Animal Health Monitoring System; Data Security Requirements for Accessing Confidential Data

AGENCY: Animal and Plant Health Inspection Service, USDA.

ACTION: New information collection; comment request.

SUMMARY: In accordance with the Paperwork Reduction Act of 1995, this notice announces the Animal and Plant Health Inspection Service's (APHIS') intention to request approval of a new information collection associated with the National Animal Health Monitoring System's (NAHMS') data security requirements when providing access to confidential data. NAHMS' data security agreements and other paperwork along with the corresponding security protocols allow NAHMS to maintain careful controls on confidentiality and privacy, as required by law.

DATES: We will consider all comments that we receive on or before October 18, 2024.

Comments: Comments are invited on (a) whether the proposed collection of information is necessary for the proper performance of the functions of the National Animal Health Monitoring System (NAHMS), including whether the information will have practical utility; (b) the accuracy of NAHMS' estimate of the burden of the proposed collection of information; (c) ways to enhance the quality, use, and clarity of the information on respondents, including through the use of automated collection techniques or other forms of information technology; and (d) ways to minimize the burden of the collection of information on those who are to respond, including through the use of appropriate automated, electronic, mechanical, or other technological collection techniques or other forms of information technology.

ADDRESSES: You may submit comments by either of the following methods:

• Federal eRulemaking Portal: Go to www.regulations.gov. Enter APHIS-2024-0031 in the Search field. Select the Documents tab, then select the Comment button in the list of documents.

• Postal Mail/Commercial Delivery: Send your comment to Docket No. APHIS-2024-0031, Regulatory Analysis and Development, PPD, APHIS, Station 3A-03.8, 4700 River Road, Unit 118, Riverdale, MD 20737-1238.

Any comments we receive on this docket may be viewed at regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the NAHMS SAP Data Security Requirements, contact Ms. Nia Washington-Plaskett, Program Analyst, Center for Epidemiology and Animal Health, VS, APHIS, 2150 Centre Ave., Bldg. B, Fort Collins, CO 80524; (866) 907-8190; email: nia.washington-plaskett@usda.gov or vs.sp.ceah.pci@usda.gov. For more detailed information on the information collection process, contact Mr. Joseph Moxey, APHIS' Paperwork Reduction Act Coordinator, at (301) 851-2533 or email: joseph.moxey@usda.gov.

SUPPLEMENTARY INFORMATION:

Title: National Animal Health Monitoring System; Data Security Requirements for Accessing Confidential Data.

OMB Control Number: 0579-XXXX.

Type of Request: Approval of a new information collection to collect information from the public to fulfill the Animal and Plant Health Inspection Service's National Animal Health Monitoring System's security requirements prior to allowing individuals to access confidential data assets for the purposes of building evidence.

Abstract: Title III of the Foundations for Evidence-Based Policymaking Act of 2018 (hereafter referred to as the Evidence Act) mandates that the Office of Management and Budget (OMB) establish a Standard Application Process (SAP) for requesting access to certain confidential data assets. Specifically, the Evidence Act requires OMB to establish a common application process through which agencies, the Congressional Budget Office, State, local, and Tribal governments, researchers, and other individuals, as appropriate, may apply for access to confidential data assets collected, accessed, or acquired by a Federal statistical agency or unit. This new process will be implemented while maintaining stringent controls to protect confidentiality and privacy, as required by law.

The Evidence Act requires that each statistical agency or unit establish an identical application process. The Evidence Act further requires that Federal statistical agencies establish common criteria for determining whether to approve an application for confidential data, timeframes for prompt determination, an appeals process for adverse determinations, and standards for transparency. In response to these requirements, the statistical agencies and units will operate a web-based portal (referred to as the SAP Portal) on behalf of OMB to provide the common application form to applicants. The objective of the SAP Portal is to increase public access to confidential data for the purposes of evidence building and reduce the burden of applying for confidential data, which currently involves separate processes with each of the Federal statistical agencies and units. Data discovery, the SAP application process, and the submission for review are planned to take place within the web-based SAP Portal as described below.

Data collected, accessed, or acquired by the Federal statistical agencies and units is vital for developing evidence on conditions, characteristics, and behaviors of the public and on the operations and outcomes of public programs and policies. This evidence can benefit the stakeholders in the programs, the broader public, as well as policymakers and program managers at the local, State, Tribal, and National levels. The many benefits of access to data for evidence building notwithstanding, the U.S. Department of Agriculture's (USDA's), Animal and Plant Health Inspection Service's (APHIS'), National Animal Health Monitoring System (NAHMS) is required by law to maintain careful controls that allow it to minimize disclosure risk while protecting confidentiality and privacy. The fulfillment of NAHMS' data security requirements places a degree of burden on the public, which is outlined further in this notice.

The SAP Portal is a web-based application for the public to request access to confidential data assets from the Federal statistical agencies and units. The objective of the SAP Portal is to increase public access to confidential data for the purposes of evidence building and reduce the burden of applying for confidential data. Once an individual's application in the SAP Portal has received a positive determination, the data-owning agency(ies) or unit(s) will begin the process of collecting information to fulfill their data security requirements.

The paragraphs below outline the SAP Policy, the steps to complete an application through the SAP Portal, and the process for agencies, such as APHIS, to collect information fulfilling their data security requirements.

The SAP Policy

At the recommendation of the Interagency Council on Statistical Policy (ICSP), the SAP Policy establishes the SAP to be implemented by the Federal statistical agencies and units and incorporates directives from the Evidence Act. The policy is intended to provide guidance as to the application and review processes using the SAP Portal, setting forth clear standards that enable Federal statistical agencies and units to implement a common application form and a uniform review process. The SAP Policy was submitted to the public for comment in January 2022 (87 FR 2459). The policy was finalized and published on December 8, 2022.¹

¹ https://www.whitehouse.gov/wp-content/uploads/2022/12/M-23-04.pdf.

The SAP Portal

The SAP Portal is an application interface connecting applicants seeking data with a catalog of data assets owned by the Federal statistical agencies and units and is hosted at www.researchdatagov.org. The SAP Portal is not a new data repository or warehouse; confidential data assets will continue to be stored in secure data access facilities owned and hosted by the Federal statistical agencies and units. The SAP Portal will provide a streamlined application process across agencies, reducing redundancies in the application process. This single SAP Portal will improve the process for applicants, tracking and communicating the application process throughout its lifecycle. This reduces redundancies and burden on applicants who request access to data from multiple agencies. The SAP Portal will automate key tasks to save resources and time and will bring agencies into compliance with the Evidence Act statutory requirements.

Data Discovery

Individuals begin the process of accessing restricted use data by discovering confidential data assets through the SAP data catalog, maintained by Federal statistical agencies at www.researchdatagov.org. Potential applicants can search by agency, topic, or keyword to identify data of interest or relevance. Once they have identified data of interest, applicants can view metadata outlining the title, description or abstract, scope and coverage, and detailed methodology related to a specific data asset to determine its relevance to their research.

While Federal statistical agencies and units shall endeavor to include metadata in the SAP data catalog on all confidential data assets for which they accept applications, it may not be feasible to include metadata for some data assets (e.g., potential curated versions of administrative data). A Federal statistical agency or unit may still accept an application through the SAP Portal even if the requested data asset is not listed in the SAP data catalog.

SAP Application Process

Individuals who have identified and wish to access confidential data assets are able to apply for access through the SAP Portal, which was released to the public in late 2022 (www.researchdatagov.org). Applicants must create an account and follow all steps to complete the application. Applicants begin by entering their personal, contact, and institutional information, as well as the personal, contact, and institutional information of all individuals on their research team. Applicants proceed to provide summary information about their proposed project, to include project title, duration, funding, timeline, and other details including the data asset(s) they are requesting and any proposed linkages to data not listed in the SAP data catalog, including non-Federal data sources. Applicants then proceed to enter detailed information regarding their proposed project, including a project abstract, research question(s), literature review, project scope, research methodology, project products, and anticipated output. Applicants must demonstrate a need for confidential data, outlining why their research question cannot be answered using publicly available information.

Submission for Review

Upon submission of their application, applicants will receive a notification that their application has been received and is under review by the data-owning agency or agencies (in the event where data assets are requested from multiple agencies). At this point, applicants will also be notified that application approval does not alone grant access to confidential data, and that, if approved, applicants must comply with the data-owning agency's security requirements outside of the SAP Portal, which may include a background check.

In accordance with the Evidence Act and the direction of the ICSP, Federal agencies will approve or reject an application within a prompt timeframe. In some cases, Federal agencies may determine that additional clarity, information, or modification is needed and request the applicant to “revise and resubmit” their application.

Data discovery, the SAP application process, and the submission for review are planned to take place within the web-based SAP Portal. As noted above, the notice announcing plans to collect information through the SAP Portal was published separately in the Federal Register (87 FR 53793-53795) ² on September 1, 2022. (See footnote 1 for more information about the SAP Policy.)

² https://www.regulations.gov/document/NSF_FRDOC_0001-2997.

Access to Restricted Use Data

In the event of a positive determination, the applicant will be notified that their proposal has been accepted. The positive or final adverse determination concludes the SAP Portal process. In the instance of a positive determination, the data-owning agency (or agencies) will contact the applicant to provide instructions on the agency's security requirements that must be completed to gain access to the confidential data. The completion and submission of the agency's security requirements will take place outside of the SAP Portal.

Collection of Information for Data Security Requirements

In the instance of a positive determination for an application requesting access to NAHMS-owned confidential data asset, NAHMS will contact the applicant(s) to initiate the process of collecting information to fulfill its data security requirements. This process allows NAHMS to place the applicant(s) in a trusted access category and includes the collection of the following information from applicant(s):

• Training requirements:

○ For datasets owned by NAHMS, completion of a NAHMS Data Access Security Briefing, which will include CIPSEA Training and a NAHMS CIPSEA Quiz will be required prior to accessing the restricted use data. CIPSEA stands for Confidential Information Protection and Statistical Efficiency Act of 2018, Title III of Public Law 115-435, codified in 44 U.S.C. Ch. 35.

○ For datasets owned by USDA's National Agricultural Statistics Service (NASS) and NAHMS, NASS personnel will provide a NASS Data Access Security Briefing to all applicants who were approved access to restricted use data. The briefing will include information on CIPSEA and other applicable Federal laws that protect the restricted use data as well as preparing and submitting disclosure reviews.

○ For datasets owned by NASS and NAHMS, applicants will be provided with the USDA NASS Data Lab Handbook that explains the policies and procedures associated with accessing unpublished NASS data in a NASS Data Lab (including data enclaves). Each researcher approved to access unpublished NASS data is required to sign the NASS ADM-044: User Attestation to acknowledge they were provided with the USDA NASS Data Lab Handbook and agree to abide by its provisions.

• Appointment of agency:

○ Applicants will complete and sign the NAHMS Agent Agreement form. This form appoints the approved applicant as an agent of NAHMS, specifies the data to which the agreement applies and the conditions by which the agent must adhere to protect the confidentiality of the data, provides citations and excerpts from applicable laws under which data are protected, and requires a signature by the applicant.

○ For datasets owned by NASS and NAHMS, the applicants will complete and sign the NASS ADM-043: Certification and Restrictions on Use of Unpublished Data. This form is required to be signed by researchers who have been approved to access unpublished NASS data. The form contains excerpts of the various laws that apply to the unpublished data being provided to the applicant. The form explains the restrictions associated with the unpublished data and includes a place for the applicant to sign the form, thereby acknowledging the restrictions and agreeing to abide by them.

• Physical or virtual Data Lab security requirement:

○ If physical Data Lab access is requested, the applicant will be required to take the NAHMS Data Lab Training and USDA Information Security Awareness Training. The NAHMS Data Lab Training outlines the processes and procedures regarding gaining access to, working within, and requesting output from the physical NAHMS Data Lab in Fort Collins, CO, and the USDA Information Security Awareness Training is required of all personnel who are given access to USDA information technology systems.

○ If virtual enclave access is requested, the applicant will be required to complete a site inspection with NAHMS personnel (using the NAHMS Site Inspection Checklist) or NASS personnel (using the NASS ADM-045: Site Inspection Checklist), which gathers information about the physical environment and the computer that the applicant will use to gain access to the virtual enclave.

Note that the training requirements and security agreements listed above are for researchers requesting access to NAHMS-owned data or NASS and NAHMS co-owned data. The burden and cost estimates associated with this information collection request (ICR) account for both. NAHMS and NASS have agreed to report the burden and cost estimates for the NASS activities above under this ICR, and the NASS activities will be merged into the NASS ICR (0535-0274) upon its next renewal.

We are asking OMB to approve our use of this information collection activity for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.50 hours per response.

Respondents: State, local, and Tribal governments, researchers, and other individuals, as appropriate.

Estimated annual number of respondents: 10.

Estimated annual number of responses per respondent: 6.

Estimated annual number of responses: 52.

Estimated total annual burden on respondents: 26 hours. (Due to averaging, the total annual burden hours may not equal the product of the annual number of responses multiplied by the reporting burden per response.)

All responses to this notice will be summarized and included in the request for OMB approval. All comments will also become a matter of public record.

Done in Washington, DC, this 14th day of August, 2024.
Michael Watson,
Administrator, Animal and Plant Health Inspection Service.

[FR Doc. 2024-18514 Filed 8-16-24; 8:45 am]

BILLING CODE 3410-34-P